DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Confidentiality of Alcohol and Drug Abuse Patient Records—(OMB No. 0930-0092, Extension, no change)— Statute (42 USC 290dd-2) and regulations (42 CFR Part 2) require Federally conducted, regulated, or directly or indirectly assisted alcohol and drug abuse programs to keep alcohol and drug abuse patient records confidential. Information requirements are (1) written disclosure to patients about Federal laws and regulations that protect the confidentiality of each patient, and (2) documenting “medical personnel” status of recipients of a disclosure to meet a medical emergency. The annual burden estimates for these requirements are summarized in the table below.

| Annual responses | Responses per respondents | Burden per response | Annual burden
Disclosure 42 CFR 2.22 | 11,250 | 130.175 |  | 255,938
Recordkeeping 42 CFR 2.51 | 11,250 | 2 | .17 | 3,938
Total | 11,250 |  |  | 259,876

Written comments and recommendations concerning the proposed information collection should be sent within 30 days of this notice to: Stuart Shapiro, Human Resources and Housing Branch, Office of Management and Budget, New Executive Office Building, Room 10235, Washington, D.C. 20503.

Dated: May 14, 2001.
Richard Kopanda,
Executive Officer, SAMHSA.

[FR Doc. 01-12673 Filed 5-18-01; 8:45 am]

BILLING CODE 4162-20-U